SMALL BUSINESS ADMINISTRATION

[Declaration of Disaster #3558]

State of West Virginia; Amendment #1

In accordance with a notice received from the Department of Homeland Security—Federal Emergency Management Agency, effective November 22, 2003, the above numbered declaration is hereby amended to include Boone, Calhoun, Clay, Fayette, Gilmer, Greenbrier, Marion, McDowell, Mercer, Monongalia, Monroe, Raleigh, Summers, Webster, Wetzel and Wyoming Counties as disaster areas due to damages caused by severe storms, flooding and landslides occurring on November 11, 2003, and continuing.

In addition, applications for economic injury loans from small businesses located in the contiguous counties of Doddridge, Harrison, Lewis, Marshall, Pocahontas, Preston, Randolph, Ritchie, Taylor, Tyler, Upshur and Wirt in the State of West Virginia; Monroe County in the State of Ohio; Fayette and Greene Counties in the Commonwealth of Pennsylvania; and Alleghany, Bath, Bland, Buchanan, Craig, Giles and Tazewell Counties is the Commonwealth of Virginia may be filed until the specified date at the previously designated location. All other counties contiguous to the above named primary counties have been previously declared.

The number for economic injury for the Commonwealth of Pennsylvania is 9Y1900 and for the Commonwealth of Virginia is 9Y2000.

All other information remains the same, i.e., the deadline for filing applications for physical damage is January 20, 2004, and for economic injury the deadline is August 23, 2004.

(Catalog of Federal Domestic Assistance Program Nos. 59002 and 59008).
Dated: November 25, 2003.
Herbert L. Mitchell,
Associate Administrator for Disaster Assistance.

[FR Doc. 03-30098 Filed 12-2-03; 8:45 am]

BILLING CODE 8025-01-P